DEPARTMENT OF AGRICULTURE

Forest Service

Plumas County Resource Advisory Committee

AGENCY: Forest Service, USDA.

ACTION: Notice of meeting.

SUMMARY: The Plumas County Resource Advisory Committee will meet in Quincy, California. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 21, 2012 from 9:00 a.m.-2:00 p.m.

ADDRESSES: The meeting will be held at the Plumas Sierra County Fair Mineral Building at 207 Fairgrounds Road in Quincy, CA.

Written comments may be submitted as described under Supplementary Information. All comments, including names and addresses when provided, are placed in the record and are available for public inspection and copying. The public may inspect comments received at the Plumas National Forest Supervisors Office, 159 Lawrence Street, Quincy, CA 95971. Please call ahead to Lee Anne Schramel Taylor at (530) 283-7850 to facilitate entry into the building to view comments.

FOR FURTHER INFORMATION CONTACT: Lee Anne Schramel Taylor, RAC Coordinator, Plumas National Forest, (530) 283-7850, TTY 711, eataylor@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: review and recommend projects authorized under title II of the Act. An agenda will be posted at http://www.fs.fed.us/srs at least one week prior to the meeting. Anyone who would like to bring related matters to the attention of the committee may file written statements with the committee staff before or after the meeting. A summary of the meeting will be posted at http://www.fs.usda.gov/srs within 21 days of the meeting.

Meeting Accommodations: If you are a person requiring resonable accomodation, please make requests in advance for sign language interpreting, assistive listening devices or other reasonable accomodation for access to the facility or procedings by contacting the person listed under For Further Information Contact. All reasonable accommodation requests are managed on a case by case basis.

Dated: August 31, 2012.
Earl Ford,
Forest Supervisor.

[FR Doc. 2012-22182 Filed 9-7-12; 8:45 am]

BILLING CODE 3410-11-P